DEPARTMENT OF ENERGY

Federal Energy Regulatory Commission

[Docket No. RP04-360-002]

Maritimes & Northeast Pipeline, L.L.C.; Notice of Motion To Place Suspended Rates Into Effect

December 9, 2004.

Take notice that on December 1, 2004, Maritimes & Northeast Pipeline, L.L.C. (Maritimes) tendered for filing as part of its FERC Gas Tariff, First Revised Volume No. 1, the revised tariff sheets as listed on Appendix A to the filing, to become effective January 1, 2005.

Maritimes states that the purpose of this filing is to move the Docket No. RP04-360 suspended rates into effect on January 1, 2005, in accordance with the Commission's regulations at 18 CFR 154.206(a).

Maritimes states that copies of its filing have been served upon all affected customers of Maritimes, interested State commissions and all parties on the Commission's Official Service List in this proceeding.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “e-Subscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3659 Filed 12-14-04; 8:45 am]

BILLING CODE 6717-01-P